FEDERAL MARITIME COMMISSION

Sunshine Act Meetings

TIME AND DATE: February 25, 2022; 10:30 a.m.

PLACE: This meeting will be held by video-conference only.

STATUS: This meeting will be closed to the public.

MATTERS TO BE CONSIDERED: Discussion of West Coast Marine Terminal Operator Agreement (WCMTOA).

CONTACT PERSON FOR MORE INFORMATION: William Cody, Secretary, (202) 523-5725.

William Cody,
Secretary.

[FR Doc. 2022-03858 Filed 2-18-22; 11:15 am]

BILLING CODE 6730-02-P